DEPARTMENT OF AGRICULTURE

Rural Business-Cooperative Service

Amendment to Notice of Solicitation of Applications for the Rural Energy for America Program

AGENCY: Rural Business-Cooperative Service, USDA.

ACTION: Notice.

SUMMARY: The Rural Business-Cooperative Service (Agency) published a notice in the Federal Register of October 6, 2015 (80 FR 60349), announcing the acceptance of applications for funds available under the Rural Energy for America Program (REAP) for Fiscal Year (FY) 2016. The 2014 Farm Bill provides funding for the program for FY 2016. This notice provides an amendment to Section V. Application Review Information, subsection A. Evaluation Criteria, to allow points to be awarded if any of the criteria are met and to maintain consistency with other Rural Development programs on how poverty areas are defined.

FOR FURTHER INFORMATION CONTACT: For information about this Notice, please contact Kelley Oehler, USDA Rural Development, Energy Division, 1400 Independence Avenue SW., Stop 3225, Room 6870, Washington, DC 20250. Telephone: (202) 720-6819. Email: Kelley.oehler@wdc.usda.gov

SUPPLEMENTARY INFORMATION: The October 6, 2015, Notice identified on page 60353, in the third column toward the bottom of the page, under Section V. Application Review Information, subsection A. Evaluation Criteria, paragraph (1)(a) indicates an “and” between the words “unserved” and “under-served populations”, and an “and” between subparagraphs (i) and (ii), as well as between subparagraphs (i) and (ii) of paragraph (1)(b), which is on page 60354 on the top of the first column. The “and” is being replaced with “or” in each of these locations to indicate the State Director and Administrator can award points if only one of the criterion is met.

Further, on page 60354 of the Notice, under paragraph (1)(b)(i), which is on the top of the first column, the following language is inserted after the phrase “living in poverty.” The period is replaced with a comma and the phrase is being added “a project is located in a community (village, town, city, or Census Designated Place) with median household income of 60 percent or less of the state's non-metropolitan median household income.”

The changes are being made to ensure REAP maintains consistency with other Agency programs on how poverty areas are defined for State Director and Administrator points and to not restrict points from being awarded if only one criteria is met.

The following Summary of Changes apply to the October 6, 2015, Notice.

Summary of Changes

1. In the third column on page 60353, Section V. Application Review Information, subsection A. Evaluation Criteria, paragraph (1)(a), the sentence is revised to read as follows:

With regard to 7 CFR 4280.120(g)(3), which addresses applicants who are members of unserved or under-served populations, a project that is:

2. In the third column on page 60353, Section V. Application Review Information, subsection A. Evaluation Criteria, paragraph (1)(a)(i), the last sentence is revised to read as follows:

In order to receive points, applicants must provide a statement in their applications to indicate that owners of the project have veteran status; or

3. In the first column on page 60354, paragraph (1)(b)(i)is revised to read as follows:

(i) Located in rural areas with the lowest incomes where, according to the most recent 5-year American Community Survey data by the U.S. Census Bureau, tracts show that at least 20 percent of the population is living in poverty or a project is located in a community (village, town, city, or Census Designated Place) with a median household income of 60 percent or less of the State's non-metropolitan median household income. This will support the Secretary of Agriculture's priority of providing 20 percent of its funding by 2016 to these areas of need; or

Nondiscrimination Statement

The U.S. Department of Agriculture (USDA) prohibits discrimination against its customers, employees, and applicants for employment on the basis of race, color, national origin, age, disability, sex, gender identity, religion, reprisal and where applicable, political beliefs, marital status, familial or parental status, religion, sexual orientation, or all or part of an individual's income is derived from any public assistance program, or protected genetic information in employment or in any program or activity conducted or funded by the Department. (Not all prohibited bases will apply to all programs and/or employment activities.)

If you wish to file a Civil Rights program complaint of discrimination, complete the USDA Program Discrimination Complaint Form (PDF), found online at http://www.ascr.usda.gov/complaint_filing_cust.html, or complete the form at any USDA office, or call (866) 632-9992 to request the form. You may also write a letter containing all of the information requested in the form. Send your completed complaint form or letter to us by mail at U.S. Department of Agriculture, Director, Office of Adjudication, 1400 Independence Avenue SW., Washington, DC 20250-9410, by fax (202) 690-7442, or email at program.intake@usda.gov.

Individuals who are deaf, hard of hearing, or have speech disabilities and wish to file either an Equal Employment Opportunity or program complaint, please contact USDA through the Federal Relay Service at (800) 877-8339 or (800) 845-6136 (in Spanish).

Persons with disabilities who wish to file a program complaint, please see information above on how to contact us directly by mail or email. If you require alternative means of communication for program information (e.g., Braille, large print, audiotape, etc.) please contact USDA's TARGET Center at (202) 720-2600 (voice and TDD).

Dated: December 8, 2015.
Samuel H. Rikkers,
Acting Administrator, Rural Business-Cooperative Service.

[FR Doc. 2015-31325 Filed 12-11-15; 8:45 am]

BILLING CODE 3410-XY-P